SECURITIES AND EXCHANGE COMMISSION

[File No. 500-1]

M (2003) PLC (f/k/a Marconi PLC), Mayfair Mining & Minerals, Inc.,MM2 Group, Inc., Nayna Networks, Inc., NCT Group, Inc., and Neptune Industries, Inc. (f/k/a Move Films, Inc.); Order of Suspension of Trading

July 20, 2011.

It appears to the Securities and Exchange Commission that there is a lack of current and accurate information concerning the securities of M (2003) PLC (f/k/a Marconi PLC) because it has not filed any periodic reports since the period ended March 31, 2006.

It appears to the Securities and Exchange Commission that there is a lack of current and accurate information concerning the securities of Mayfair Mining & Minerals, Inc. because it has not filed any periodic reports since the period ended March 31, 2009.

It appears to the Securities and Exchange Commission that there is a lack of current and accurate information concerning the securities of MM2 Group Inc. because it has not filed any periodic reports since the period ended March 31, 2009.

It appears to the Securities and Exchange Commission that there is a lack of current and accurate information concerning the securities of Nayna Networks, Inc. because it has not filed any periodic reports since the period ended September 30, 2007.

It appears to the Securities and Exchange Commission that there is a lack of current and accurate information concerning the securities of NCT Group, Inc. because it has not filed any periodic reports since the period ended June 30, 2006.

It appears to the Securities and Exchange Commission that there is a lack of current and accurate information concerning the securities of Neptune Industries, Inc. (f/k/a Move Films, Inc.) because it has not filed any periodic reports since the period ended September 30, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on July 20, 2011, through 11:59 p.m. EDT on August 2, 2011.

By the Commission.
Jill M. Peterson,
Assistant Secretary.

[FR Doc. 2011-18679 Filed 7-20-11; 4:15 pm]

BILLING CODE 8011-01-P